COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 10/24/2011.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 6/10/2011 (76 FR 34064-34065) and 7/22/2011 (76 FR 43990-43991), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: AF110—Shirt, Class A/Primary Duty, USAF, Men's, Long Sleeve, Dark Navy Blue, Numerous Sizes.

NSN: AF111—Shirt, Class A/Primary Duty, USAF, Women's, Long Sleeve, Dark Navy Blue, Numerous Sizes.

NSN: AF120—Shirt, Class A/Primary Duty, USAF, Men's, Short Sleeve, Dark Navy Blue, Numerous Sizes.

NSN: AF121—Shirt, Class A/Primary Duty, USAF, Women's Short Sleeve, Dark Navy Blue, Numerous Sizes.

NSN: AF130—Pants, Class A/Primary Duty, USAF, Men's, Flex Waist, Dark Navy Blue, Numerous Sizes

NSN: AF131—Pants, Class A/Primary Duty, USAF, Women's, Flex Waist, Dark Navy Blue, Numerous Sizes.

NSN: AF140—Ballcap, Standard, USAF, Unisex, Dark Navy Blue, M/L; L/XL.

NSN: AF150—Hat, Formal, USAF, Unisex, Dark Navy Blue, S; M; L; XL.

NSN: AF210—Shirt, Class B/Utility, USAF, Long Sleeve, Unisex, Dark Navy Blue, Numerous Sizes.

NSN: AF220—Shirt, Class B/Utility, USAF, Short Sleeve, Unisex, Dark Navy Blue, Numerous Sizes.

NSN: AF230—Trousers, class B/Utility, USAF, Unisex, Dark Navy Blue, Numerous Sizes

NSN: AF310—Jacket, USAF, 3/4 Length, Unisex, Dark Navy Blue, Numerous Sizes.

NSN: AF320—Pants, USAF, Unisex, Rain, Dark Navy Blue, Numerous Sizes.

NSN: AF330—Jacket, USAF, Waist Length, Unisex, Dark Navy Blue, Numerous Sizes.

NSN: AF340—Turtleneck, USAF, Unisex, Dark Navy Blue, Numerous Sizes.

NSN: AF350—Fleece Liner, USAF, Unisex, Dark Navy Blue, Liner for Jacket, Numerous Sizes.

NSN: AF360—Cap USAF, Unisex, Weather Watch, Dark Navy Blue, One Size Fits All.

NSN: AF370—Parka, USAF, Unisex, Cold Weather, Dark Navy Blue, Numerous Sizes.

NSN: AF380—Over Pants, USAF, Unisex, Cold Weather, Dark Navy Blue, Numerous Sizes.

NSN: AF390—Coveralls/Jumpsuit, USAF, Unisex, Lightweight, Dark Navy Blue, Numerous Sizes.

NSN: AF411A—Belt, Class A/Primary Duty, USAF, Unisex, Black Leather, Numerous Sizes.

NSN: AF412B—Belt, Class B/Primary Duty, USAF, Unisex, Black Leather, Numerous Sizes.

NSN: AF420—Nameplate, Class A, USAF, Metal, Polished Nickel Finish with black Lettering.

NSN: AF430—Nameplate, Class B, USAF, Cloth, Dark Navy Blue with Silver/Gray Thread Lettering.

NSN: AF9410—Necktie Bar Clasp, USAF, Metal, Polished Nickel Finish.

NSN: AF9410P—Patch, “Police”, USAF, Half Size, 3″x 2″.

NSN: AF9411—Patch, USAF, Longevity Stripe, Blue and Gold.

NSN: AF9412—Badge, “Police”, USAF, Nickel Finish, 3″x2 ″.

NSN: AF9413G—Patch, “Guard”, USAF, Full Size, 4″x 5/8″.

NSN: AF9413P—Patch, “Police”, USAF, Full Size, 4″x 5/8″.

NSN: AF9414G—Patch, “Guard”, USAF, Half Size, 3″x 2″.

NSN: AF9415—Hat Badge, Formal, USAF, Nickel Finish.

NSN: AF9440—Badge, USAF, “DEPUTY CHIEF”, Metallic Polished Nickel Finish, 1″x 7/8″.

NSN: AF9450—Badge, USAF, “ASSISTANT TO THE OPERATIONS OFFICER”, Metallic Polished Nickel Finish, 1″x 7/8″.

NSN: AF9460—Badge, USAF, “SHIFT SUPERVISOR”, Metallic Polished Nickel Finish, 1″x 7/8″.

NSN: AF9470—Badge, USAF, “TRAINING SUPERVISOR”, Metallic Polished Nickel Finish, 1″x 7/8″.

NSN: AF9482—Insignia, USAF, Collar Chevrons Officer (2 stripes), USAF, Metallic Silver or Polished Nickel Finish.

NSN: AF9483—Insignia, USAF, Collar Chevrons Officer (3 Stripes), USAF Metallic Silver or Polished Nickel Finish.

NSN: AF9490—Necktie, USAF, Unisex, Dark Navy Blue.

NPA: Human Technologies Corporation, Utica, NY.

Contracting Activity: Air Force Material Command, Wright Patterson AFB, OH.

Coverage: C-List for 100% of the requirement of the U.S. Air Force as aggregated by the Air Force Material Command, Wright Patterson AFB, OH.

The Committee for Purchase From People Who Are Blind or Severely Disabled (Committee) operates pursuant to statutory and regulatory requirements. The Committee regulation at 41 CFR 51-2-4 states that for a commodity or service to be suitable for addition to the Procurement List each of the following criteria must be reviewed and determined satisfactory under Committee practice and procedure: Employment potential; nonprofit agency qualifications, capability, and level of impact on the current contractor for the commodity or service. The Javits-Wagner-O'Day (JWOD) Act requires that projects added to the Procurement List must be provided by qualified nonprofit agencies that employ people who are blind or severely disabled for not less than 75% of the direct hours required for the production or provision of products or services during each fiscal year.

Comments were received from a commercial contractor that produces headwear, requesting that one of the proposed items not be added to the Procurement List. The contractor has not in the past, and does not currently, produce the particular item for the government; however, the contractor wants the opportunity to do so in the future. The contractor also implies that the AbilityOne Program has previously impacted his company.

The requirement considered by the Committee has not been previously purchased by the contracting activity. Moreover, the contracting activity has specifically requested that the AbilityOne Program perform the consolidated effort of providing the products and services identified in the Procurement List addition. Consequently, there is no expectation that the contracting activity desires to individually source particular products, nor is there any assurance this contractor would be selected to provide such products. Since this contractor does not currently provide any of the products or services identified in this addition, there can be no claim of adverse impact due to this addition. Therefore, pursuant to its statutory responsibility, the Committee has determined the products and services are suitable for procurement by the government and can be provided by qualified nonprofit agencies employing people who are blind or who have other severe disabilities.

NSN: 8970-01-576-1950—Kit, Remote Feeding and Cleaning.

NPA: NewView Oklahoma, Inc., Oklahoma City, OK.

Contracting Activity: Defense Logistics Agency Troop Support, Philadelphia, PA.

Coverage: C-List for 100% of the requirement of the Department of Defense, as aggregated by the Defense Logistics Agency Troop Support, Philadelphia, PA.

Services

Service Type/Location: Package Reclamation, DLA-Wide, Defense Distribution Center, Tinker AFB, Oklahoma City, OK.

NPA: NewView Oklahoma, Inc., Oklahoma City, OK.

Contracting Activity: Defense Logistics Agency, DLA Distribution, New Cumberland, PA.

Service Type/Location: Peel & Stick Program Support, U.S. Coast Guard-Wide, 1750 Claiborne Avenue, Shreveport, LA.

NPA: Louisiana Association for the Blind, Shreveport, LA.

Contracting Activity: Deptartment of Homeland Security, U.S. Coast Guard, Lockport, LA.

Barry S. Lineback,
Director, Business Operations.

[FR Doc. 2011-24463 Filed 9-22-11; 8:45 am]

BILLING CODE 6353-01-P